Proclamation 10364 of April 1, 2022

World Autism Awareness Day, 2022

By the President of the United States of America

A Proclamation

On World Autism Awareness Day, we reaffirm our commitment to ensuring that the more than 5 million Americans who live with autism are able to make the most of their talents and participate fully in our society, and we celebrate the contributions autistic Americans have made to our families, our communities, our Nation, and the world.

We have made significant progress in improving access to opportunity for people with developmental disabilities in recent years. However, many autistic individuals still experience gaps in employment and income. The COVID-19 pandemic has compounded these inequities, creating unique challenges and strains for people with autism and their families.

That is why my Administration is committed to addressing the systemic barriers people with autism face in their daily lives. The pandemic upended school routines for children and students living with disabilities. That is why the Department of Education is working tirelessly to accelerate pandemic recovery for special education programs. In addition, the Department of Health and Human Services and the Department of Housing and Urban Development are committed to ensuring individuals with disabilities have access to affordable housing as we come through this pandemic.

In order to improve quality of life for people with autism and their families in every community, my Administration is committed to funding cutting-edge research to help us better understand, diagnose, and treat autism, including funding research at the National Institutes of Health and the Centers for Disease Control and Prevention that seeks to better understand the underlying mechanisms of autism from childhood through early adulthood, improve methods of early identification and diagnosis, and develop innovations in the delivery of interventions and services.

My Administration remains committed to reducing barriers in access to early diagnoses, interventions, and services for people with autism—regardless of race, gender, ethnicity, culture, or geography—and to incorporating the lived experiences of individuals with autism into their research. Last June, when I signed the Executive Order on Diversity, Equity, Inclusion, and Accessibility in the Federal Workforce, I promised to cultivate a Federal workforce that draws from the full diversity of the Nation. One of the ways we are delivering on that promise is through a partnership between the Department of Labor and the Administration for Community Living, which is expanding access to competitive, integrated employment opportunities for people with disabilities, including autism.

In addition, my Administration will continue to build on the work done by the Interagency Autism Coordinating Committee, the National Autism Coordinator, and others to make certain that autistic Americans have access to the care, services, and support they need, so they can pursue their educational, career, and life interests without discrimination.

Today and every day, we honor autistic people and celebrate the meaningful and measureless ways they contribute to our Nation. We applaud the millions of educators, advocates, family members, caregivers, and others who support them. As we continue to build a better America, we reaffirm our promise to provide Americans with autism the support they need to live independently, fully participate in their communities, and lead fulfilling lives of dignity and respect.

NOW, THEREFORE, I, JOSEPH R. BIDEN JR., President of the United States of America, by virtue of the authority vested in me by the Constitution and the laws of the United States, do hereby proclaim April 2, 2022, as World Autism Awareness Day. I call upon all Americans to learn more about autism to improve early diagnosis, to learn more about the experiences of autistic people from autistic people, and to build more welcoming and inclusive communities to support people with autism.

IN WITNESS WHEREOF, I have hereunto set my hand this first day of April, in the year of our Lord two thousand twenty-two, and of the Independence of the United States of America the two hundred and forty-sixth.

[FR Doc. 2022-07447

Filed 4-5-22; 8:45 am]

Billing code 3395-F2-P